DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to the proposed Road Safety Enhancement Project to enhance roadway safety and reduce collisions to rock barriers on State Route 33 (SR 33) from post-mile (PM) 18.88 to PM 19.04, in Ventura County, State of California. Those actions grant licenses, permits, and approvals for the project.

DATES: By this notice, the FHWA, on behalf of Caltrans, is advising the public of final agency actions subject to 23 U.S.C. 139(l)(1). A claim seeking judicial review of the Federal Agency Actions on the highway project will be barred unless the claim is filed on or before January 27, 2022. If the Federal law that authorizes judicial review of a claim provides a time period of less than 150 days for filing such claim, then that shorter time period still applies.

FOR FURTHER INFORMATION CONTACT: For Caltrans, contact Susan Tse Koo, Senior Environmental Planner at (213) 269-1106 or email at Susan.Tse@dot.ca.gov. For FHWA, contact David Tedrick at (916) 498-5024 or email David.Tedrick@dot.gov.

SUPPLEMENTARY INFORMATION: Effective July 1, 2007, FHWA assigned, and Caltrans assumed, environmental responsibilities for this project pursuant to 23 U.S.C. 327. Notice is hereby given that Caltrans and has taken final agency actions subject to 23 U.S.C. 139(l)(1) by issuing licenses, permits, and approvals for the following highway project in the State of California: Caltrans proposes the Road Safety Enhancement Project to enhance roadway safety and reduce collisions to rock barriers by widening the roadway by four feet nine inches on the southbound direction of the SR 33 from PM 18.88 to PM 19.04 in Ventura County through a continuous cantilever slab. The height of the retaining rock block wall will be reduced on the north end, and the existing metal beam guardrail will be removed to accommodate an overhang. The overhang is expected to extend less than three feet out of the roadway. This will result in an additional six inches of lane width for each lane (northbound and southbound) as well as a two-foot shoulder to widen the turning radius. The existing rock block barrier will be replaced by a new cast-in-place textured stamped concrete barrier plus construction of a two-foot wide and six-inch deep shallow concrete-lined drainage ditch along the northbound shoulder to funnel spring water runoff into North Fork Matilija Creek. In addition, the project also includes updated advanced curve warning signs and a high friction surface treatment (HFST) that will be applied to a perennially wet section of the travelled roadway. The purpose of the proposed project is to enhance roadway safety and, reduce severity of collisions and collisions to the rock barrier.

The actions by the Federal agencies, and the laws under which such actions were taken, are described in the Initial Study (IS) with Mitigated Negative Declaration (MND)/Environmental Assessment (EA) with Finding of No Significant Impact (FONSI) approved on May 12, 2021, and in other documents in the FHWA project records. The MND/FONSI can be viewed and downloaded from CEQAnet at https://ceqanet.opr.ca.gov/2020100364/3.

This notice applies to all Federal agency decisions as of the issuance date of this notice and all laws under which such actions were taken, including but not limited to:

(1) National Environmental Policy Act (NEPA) of 1969;

(2) Federal Aid Highway Act of 1970;

(3) U.S. EPA Section 404(b)(1) Guidelines (40 Code of Federal Regulations [CFR] 230);

(4) Clean Air Act Amendments of 1990 (CAAA);

(5) Clean Water Act of 1977 and 1987;

(6) California Environmental Quality Act;

(7) Sections 1600-1603 of the California Fish and Game Code;

(8) Sections 4150 and 4152 of the California Fish and Game Code;

(9) Safe Drinking Water Act of 1944, as amended;

(10) Migratory Bird Treaty Act;

(11) Fish and Wildlife Coordination Act of 1934, as amended;

(12) National Marine Fisheries Services;

(13) Title VI of the Civil Rights Act of 1964, as amended;

(14) Occupational Safety and Health Act (OSHA);

(15) Atomic Energy Act;

(16) Toxic Substances Control Act (TSCA);

(17) Federal Insecticide, Fungicide, and Rodenticide Act (FIFRA);

(Catalog of Federal Domestic Assistance Program Number 20.205, Highway Planning and Construction. The regulations implementing Executive Order 12372 regarding intergovernmental consultation on Federal Programs and activities apply to this program.)

(Authority: 23 U.S.C. 139(l)(1))

Issued on: August 24, 2021.
Rodney Whitfield,
Director, Financial Services, Federal Highway Administration, California Division.

[FR Doc. 2021-18550 Filed 8-27-21; 8:45 am]

BILLING CODE 4910-RY-P